DEPARTMENT OF TRANSPORTATION

Federal Aviation Administration

14 CFR Part 39

[Docket No. FAA-2021-0223; Project Identifier AD-2020-00539-A]

RIN 2120-AA64

Airworthiness Directives; Mooney International Corporation Airplanes

AGENCY: Federal Aviation Administration (FAA), DOT.

ACTION: Proposed rule; correction.

SUMMARY: The FAA is correcting a notice of proposed rulemaking (NPRM) that published in the Federal Register. The NPRM proposed to issue an airworthiness directive (AD) that would apply to certain Mooney International Corporation (Mooney) Model M20V airplanes. As published, the docket number referenced throughout is incorrect. This document corrects that error. In all other respects, the original document remains the same; however, for clarity, the FAA is publishing the entire proposed rule in the Federal Register.

DATES: The last date for submitting comments on the NPRM (86 FR 13502, March 9, 2021) remains April 23, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in the NPRM, contact Mooney International Corporation, 165 Al Mooney Road, North Kerrville, TX 78028; phone: (800) 456-3033; email: support@mooney.com. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-0223; or in person at Docket Operations between 9 a.m. and 5 p.m., Monday through Friday, except Federal holidays. The AD docket contains the NPRM, any comments received, and other information. The street address for Docket Operations is listed above.

FOR FURTHER INFORMATION CONTACT: Jacob Fitch, Aviation Safety Engineer, Fort Worth ACO Branch, FAA, 10101 Hillwood Pkwy, Fort Worth, TX 76177; phone: (817) 222-4130; fax: (817) 222-5245; email: jacob.fitch@faa.gov.

SUPPLEMENTARY INFORMATION:

Comments Invited

The FAA invites you to send any written relevant data, views, or arguments about this proposal. Send your comments to an address listed under ADDRESSES. Include “Docket No. FAA-2021-0223; Project Identifier AD-2020-00539-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about the NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to the NPRM, it is important that you clearly designate the submitted comments as CBI. Please mark each page of your submission containing CBI as “PROPIN.” The FAA will treat such marked submissions as confidential under the FOIA, and they will not be placed in the public docket of the NPRM. Submissions containing CBI should be sent to Jacob Fitch, Aviation Safety Engineer, Fort Worth ACO Branch, FAA, 10101 Hillwood Pkwy, Fort Worth, TX 76177. Any commentary that the FAA receives which is not specifically designated as CBI will be placed in the public docket for this rulemaking.

Background

The FAA published an NPRM (86 FR 13502, March 9, 2021) that would apply to certain serial-numbered Mooney Model M20V airplanes. The NPRM proposed to require inspecting the alternator main power cable and the exhaust crossover tube and modifying the alternator main power cable routing by installing an additional alternator cable clamp, part number MS21919WCJ6. The NPRM was prompted by reports of short circuit and arcing of the alternator main power cable in the engine compartment. This condition, if unaddressed, could result in a fire hazard, loss of engine thrust control, and reduced control of the airplane.

Need for the Correction

As published, the docket number referenced throughout the NPRM is incorrect. The NPRM incorrectly references “Docket No. FAA-2020-0991” instead of “Docket No. FAA-2021-0223.”

Although no other part of the preamble or regulatory information has been corrected, for clarity, the FAA is publishing the entire proposed rule in the Federal Register.

The comment due date of the NPRM remains April 23, 2021.

Related Service Information Under 1 CFR Part 51

The FAA reviewed Mooney International Corporation Service Bulletin M20-340C, dated February 14, 2020 (SB M20-340C). The service information specifies inspecting the alternator main power cable and the exhaust crossover tube for damage and replacing damaged parts as necessary. The service information also contains procedures for modifying the alternator main power cable routing by installing an additional alternator cable clamp, part number MS21919WCJ6.

This service information is reasonably available because the interested parties have access to it through their normal course of business or by the means identified in the ADDRESSES section.

FAA's Determination

The FAA is issuing this NPRM after determining the unsafe condition described previously is likely to exist or develop in other products of the same type design.

Proposed AD Requirements in This NPRM

This proposed AD would require accomplishing the actions specified in the service information described previously, except as discussed under “Differences Between this Proposed AD and the Service Information.”

Differences Between This Proposed AD and the Service Information

SB M20-340C specifies sending a compliance card to Mooney upon completing the actions in the service information. This proposed AD would not require that action.

Costs of Compliance

The FAA estimates that this AD, if adopted as proposed, would affect 18 airplanes of U.S. registry.

The FAA estimates the following costs to comply with this proposed AD:

Estimated Costs
Action | Labor cost | Parts cost | Cost per product | Cost on U.S. operators
Inspect the cable and exhaust crossover tube for damage | .5 work-hour × $85 per hour = $42.50 | $0 | $42.50 | $765
Install additional cable clamp | .5 work-hour × $85 per hour = $42.50 | 10 | 52.50 | 945

The FAA estimates the following costs to do any necessary repairs/replacements that would be required based on the results of the proposed inspection. The agency has no way of determining the number of aircraft that might need these repairs/replacements:

On-Condition Costs
Action | Labor cost | Parts cost | Cost per product
Replace alternator main power cable | 8 work-hours × $85 per hour = $680 | $1,000 | $1,680
Replace exhaust crossover tube | 8 work-hours × $85.00 per hour = $680 | 2,500 | 3,180

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is proposing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

Correction

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Corrected]

2. The FAA amends § 39.13 by adding the following new airworthiness directive:

Mooney International Corporation: Docket No. FAA-2021-0223; Project Identifier AD-2020-00539-A.

(a) Comments Due Date

The FAA must receive comments on this airworthiness directive (AD) by April 23, 2021.

(b) Affected ADs

None.

(c) Applicability

This AD applies to Mooney International Corporation Model M20V airplanes, serial numbers 33-0001 through 33-0018, certificated in any category.

(d) Subject

Joint Aircraft System Component Code 2400, Electrical Power System.

(e) Unsafe Condition

This AD was prompted by reports of short circuit and arcing of the alternator main power cable in the engine compartment. The FAA is issuing this AD to prevent arcing of the alternator main power cable in the engine compartment. This condition, if not addressed, could result in an inflight fire and loss of engine thrust control, which may lead to reduced control of the airplane.

(f) Compliance

Comply with this AD before further flight after the effective date of this AD, unless already done.

(g) Required Actions

(1) Inspect the alternator main power cable and the exhaust crossover tube for burn marks, chafing, holes, and cracks, and replace any cable and crossover tube that has a burn mark, chafing, a hole, or a crack.

(2) Install an additional alternator cable clamp part number MS21919WCJ6 and ensure correct routing of the alternator main power cable by following steps 1.5. through 1.9. of the Instructions in Mooney International Corporation Service Bulletin M20-340C, dated February 14, 2020.

(h) Special Flight Permit

A special flight permit may be issued with the following limitations:

(1) Flights must not carry passengers;

(2) Operation in daytime visual meteorological conditions only;

(3) Straight and level flight must be maintained;

(4) Operation in areas of known turbulence prohibited; and

(5) Altitude limited to 9,000 ft. above sea level.

(i) Alternative Methods of Compliance (AMOCs)

(1) The Manager, Fort Worth ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information.

(2) Before using any approved AMOC, notify your appropriate principal inspector, or lacking a principal inspector, the manager of the local flight standards district office/certificate holding district office.

(j) Related Information

(1) For more information about this AD, contact Jacob Fitch, Aviation Safety Engineer, Fort Worth ACO Branch, FAA, 10101 Hillwood Pkwy, Fort Worth, TX 76177; phone: (817) 222-4130; fax: (817) 222-5245; email: jacob.fitch@faa.gov.

(2) For service information identified in this AD, contact Mooney International Corporation, 165 Al Mooney Road, North Kerrville, TX 78028; phone: (800) 456-3033; email: support@mooney.com. You may view this referenced service information at the FAA, Airworthiness Products Section, Operational Safety Branch, 901 Locust, Kansas City, MO 64106. For information on the availability of this material at the FAA, call (816) 329-4148.

Issued on March 11, 2021.
Lance T. Gant,
Director, Compliance & Airworthiness Division, Aircraft Certification Service.

[FR Doc. 2021-05441 Filed 3-16-21; 8:45 am]

BILLING CODE 4910-13-P